DEPARTMENT OF HEALTH AND HUMAN SERVICES

Centers for Disease Control and Prevention

[Program Announcement 03053]

Expansion of HIV Voluntary Counseling and Testing, Prevention of Mother-to-Child Transmission Studies, and HIV Surveillance in the Republic of South Africa; Notice of Intent To Fund Single Eligibility Award

A. Purpose

The Centers for Disease Control and Prevention (CDC) announces the intent to fund fiscal year (FY) 2003 funds for a cooperative agreement program for the expansion of HIV Voluntary Counseling and Testing (VCT), Prevention of Mother-To-Child Transmission (PMTCT) services and HIV/AIDS surveillance in the Republic of South Africa. The Catalog of Federal Domestic Assistance number for this program is 93.941.

B. Eligible Applicant

Assistance will be provided only to the National Department of Health (NDOH) South Africa. The South Africa NDOH is the only appropriate and qualified organization to conduct a specific set of activities supportive of the CDC GAP's technical assistance to South Africa because:

1. The South Africa NDOH is uniquely positioned, in terms of legal authority, and commitment to the development and implementation of model VCT, PMTCT services and national HIV/AIDS surveillance in South Africa.

2. The NDOH already has established mechanisms to develop and implement VCT, PMTCT services and HIV/AIDS surveillance throughout all nine provinces enabling it to become engaged immediately in the activities listed in this announcement.

3. Guidelines and standards for VCT, PMTCT testing, counseling, training, referral services and HIV/AIDS surveillance have been developed and disseminated.

4. The purpose of the announcement is to build upon the existing framework of HIV prevention activities that the NDOH itself has developed or initiated.

5. The NDOH is mandated by the South African government to coordinate and implement HIV Prevention activities. This includes increased access to VCT, PMTCT and HIV/AIDS surveillance within South Africa.

6. No other institution has the capacity, legal mandate or expertise to accomplish these tasks.

C. Funding

Approximately $700,000 is available in FY 2003 to fund this award. It is expected that the award will begin on or before September 1, 2003 and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Jamie W. Legier, Grants Management Specialist, Procurement and Grants Office, Centers for Disease Control and Prevention, 2920 Brandywine Road, Atlanta, GA 30341-4146, Telephone: (770) 488-2635, E-mail address: bzl3@cdc.gov.

Dated: May 22, 2003.
Sandra R. Manning,
Director, Procurement and Grants Office, Centers for Disease Control and Prevention.

[FR Doc. 03-13379 Filed 5-28-03; 8:45 am]

BILLING CODE 4163-18-P